FEDERAL COMMUNICATIONS COMMISSION

47 CFR Part 73

[DA 00-2207, MM Docket No. 00-103; RM-9878]

Digital Television Broadcast Services; Killeen, TX

AGENCY: Federal Communications Commission.

ACTION: Final rule.

SUMMARY: The Commission, at the request of White Knight Broadcasting of Killeen License Corporation, licensee of TV station KAKW(TV), substitutes DTV Channel 13 for DTV Channel 23 at Killeen, Texas. See 65 FR 37752, June 16, 2000. DTV Channel 13 can be allotted to Killeen at coordinates (30-43-33 N. and 97-59-24 W.) with a power of 39.4, HAAT of 553 meters, and with a DTV service population of 1307 thousand.

With this action, this proceeding is terminated.

DATES: Effective November 16, 2000.

FOR FURTHER INFORMATION CONTACT: Pam Blumenthal, Mass Media Bureau, (202) 418-1600.

SUPPLEMENTARY INFORMATION: This is a synopsis of the Commission's Report and Order, MM Docket No. 00-103, adopted September 29, 2000, and released October 2, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for part 73 continues to read as follows:

Authority: 47 U.S.C. 154, 303, 334. 336.

§ 73.622 [Amended]

2. Section 73.622(b), the Table of Digital Television Allotments under Texas, is amended by removing DTV Channel 23 and adding DTV Channel 13 at Killeen.

Federal Communications Commission.
Barbara A. Kreisman,
Chief, Video Services Division, Mass Media Bureau.

[FR Doc. 00-25358 Filed 10-2-00; 8:45 am]

BILLING CODE 6712-01-U